DEPARTMENT OF HEALTH AND HUMAN SERVICES

Health Care Financing Administration

42 CFR Parts 431, 433, 435, 436, and 457

[HCFA-2006-F3]

RIN 0938-AI28

State Child Health; Implementing Regulations for the State Children's Health Insurance Program: Further Delay of Effective Date

AGENCY: Health Care Financing Administration (HCFA), HHS.

ACTION: Final rule; Further delay of effective date.

SUMMARY: This final rule temporarily delays the effective date of the final rule entitled “State Child Health; Implementing Regulations for the State Children's Health Insurance Program” published in the January 11, 2001 Federal Register (66 FR 2490). That final rule implements provisions of the Balanced Budget Act of 1997 (BBA) related to the State Children's Health Insurance Program (SCHIP). Specifically, the final rule includes provisions related to State plan requirements and plan administration, coverage and benefits, eligibility and enrollment, enrollee financial responsibility, strategic planning, substitution of coverage, program integrity, certain allowable waivers, and applicant and enrollee protections. It also implements the provisions of sections 4911 and 4912 of the BBA, which amended title XIX of the Social Security Act to expand State options for coverage of children under the Medicaid program. In addition, the final rule makes technical corrections to subparts B and F of 42 CFR part 457.

On February 26, 2001, we initially delayed the effective date of the final rule from April 11, 2001 until June 11, 2001. The temporary 60-day delay in the effective date was necessary to give Department officials the opportunity for further review and consideration of new regulations.

We have decided to further delay the effective date of the final rule because we have determined that a short additional period is required to properly consider and promulgate necessary revisions. To the extent that 5 U.S.C. section 553 applies to this action, this action is exempt from notice and comment because it constitutes a rule of procedure under 5 U.S.C. section 553(b) (A). Alternatively, HCFA's delay of implementation of this rule without opportunity for public comment, effective immediately upon publication today in the Federal Register, is based on the good cause exceptions in 5 U.S.C. sections 553(b)(B) and 553(d)(3), in that seeking public comment is impracticable, unnecessary, and contrary to the public interest. Given the imminence of the effective date, seeking prior public comment on this temporary delay would have been impractical because the time available before the effective date is too short for meaningful comment. Moreover, to the extent that seeking public comment would preclude this delay, it would be contrary to the public interest in the orderly promulgation and implementation of regulations in light of the development of necessary revisions. The immediate delay is necessary to prevent application of inconsistent standards while we issue the necessary revisions.

DATES: The effective date of the final rule amending 42 CFR parts 431, 433, 435, 436 and 457, published in the Federal Register on January 11, 2001, at 66 FR 2490 and delayed on February 26, 2001 at 66 FR 11547 until June 11, 2001 is further delayed until June 25, 2001.

FOR FURTHER INFORMATION CONTACT: Regina Fletcher (410) 786-3293.

(Catalog of Federal Domestic Assistance Program No. 93.767, State Children's Health Insurance Program)
Dated: June 7, 2001.
Thomas A. Scully,
Administrator, Health Care Financing Administration.
Approved: June 7, 2001.
Tommy G. Thompson,
Secretary.

[FR Doc. 01-14733 Filed 6-8-01; 8:45 am]

BILLING CODE 4120-01-P